DEPARTMENT OF THE INTERIOR

National Park Service

[NPS-WASO-BSAD-CONC-12056; 133 PPMVSCS1Y.Y00000, PPWOBSADC0]

Information Collection Request Sent to the Office of Management and Budget (OMB) for Approval; Submission of Offers in Response to Concession Opportunities

AGENCY: National Park Service, Interior.

ACTION: Notice; request for comments.

SUMMARY: We (National Park Service, NPS) have sent an Information Collection Request (ICR) to OMB for review and approval. We summarize the ICR below and describe the nature of the collection and the estimated burden and cost. This information collection is scheduled to expire on March 31, 2013. We may not conduct or sponsor and a person is not required to respond to a collection of information unless it displays a currently valid OMB control number. However, under OMB regulations, we may continue to conduct or sponsor this information collection while it is pending at OMB.

DATES: You must submit comments on or before March 29, 2013.

ADDRESSES: Send your comments and suggestions on this information collection to the Desk Officer for the Department of the Interior at OMB-OIRA at (202) 395-5806 (fax) or OIRA_Submission@omb.eop.gov (email). Please provide a copy of your comments to the Information Collection Clearance Officer, National Park Service, 1201 I Street NW., MS 1237, Washington, DC 20005 (mail); or madonna_baucum@nps.gov (email). Please reference OMB Control Number 1024-0125 in the subject line of your comments.

FOR FURTHER INFORMATION CONTACT: To request additional information about this ICR, contact Deborah Harvey, Acting Chief, Commercial Services Program, 1201 I Street, NW., Washington, DC 20005. You may send an email to Deborah_Harvey@nps.gov or contact her by telephone at (202) 513-7150 or via fax at (202) 371-2090. You may review the ICR online at http://www.reginfo.gov. Follow the instructions to review Department of the Interior collections under review by OMB.

SUPPLEMENTARY INFORMATION: OMB Control Number: 1024-0125.

Title: Submission of Offers in Response to Concession Opportunities, 36 CFR 51.

Service Form Number: None.

Type of Request: Extension of a currently approved collection.

Description of Respondents: Businesses, individuals, and nonprofit organizations.

Respondent's Obligation: Required to obtain or retain a benefit.

Frequency of Collection: On occasion.

Activity | Number of respondents | Number of responses | Completion time per response (hours) | Total annual burden hours
Large Concessions | 30 | 30 | 240 | 7,200
Small Concessions | 60 | 60 | 80 | 4,800
Totals | 90 | 90 |  | 12,000

Estimated Annual Nonhour Burden Cost: $420,000. We estimate that the average nonhour cost per respondent is $3,000 for small operations and $8,000 for large operations.

Abstract: The regulations at 36 CFR Part 51 primarily implement Title IV of the National Parks Omnibus Management Act of 1998 (Pub. L. 105-391), which provides legislative authority, policies, and requirements for the solicitation, award, and administration of NPS concession contracts. The regulations require the submission of offers by parties interested in applying for an NPS concession contract.

The public solicitation process begins with the issuance of a prospectus to invite the general public to submit proposals for the contract. The prospectus describes the terms and conditions of the concession contract to be awarded, the procedures to be followed in the selection of the best proposal, and the information that must be provided. Information that we collect includes, but is not limited to:

• Description of how respondent will conduct operations to minimize disturbance to wildlife.

• Specific actions, steps, or programs that respondent will implement to protect park resources.

• Steps that respondent will take to provide visitors with a consistent, high quality, safe, and enjoyable visitor experience at a reasonable rate.

• Organizational structure and history.

• Experience with similar operations.

• Details on violations or infractions and how they were handled.

• Financial information and demonstration that respondent has credible, proven track record of meeting obligations.

• Ability to obtain funds for start-up costs.

• How respondent will communicate an environmental ethic to employees and visitors.

We use this information to objectively evaluate offers received for a particular business opportunity, assure that the park resources will be adequately protected, and determine which respondent will provide the best service to visitors.

Comments: On July 24, 2012, we published in the Federal Register (77 FR 43354) a notice of our intent to request that OMB renew approval for this information collection. In that notice, we solicited comments for 60 days, ending on September 24, 2012. We did not receive any comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: February 13, 2013.
Madonna L. Baucum,
Information Collection Clearance Officer, National Park Service.

[FR Doc. 2013-04537 Filed 2-26-13; 8:45 am]

BILLING CODE 4312-EH-P